DEPARTMENT OF HOMELAND SECURITY

[Docket No. DHS-2009-0154]

Assessment Questionnaire—Risk Self-Assessment Tool (R-SAT)

AGENCY: National Protection and Programs Directorate, Department of Homeland Security.

ACTION: 30-Day Notice and request for comments; new information collection request, 1670-NEW.

SUMMARY: The Department of Homeland Security, National Protection and Programs Directorate has submitted the following information collection request (ICR) to the Office of Management and Budget (OMB) for review and clearance in accordance with the Paperwork Reduction Act of 1995 (Pub. L. 104-13, 44 U.S.C. Chapter 35). The National Protection and Programs Directorate is soliciting comments concerning new collection request, Assessment Questionnaire—Risk Self-Assessment Tool (R-SAT). DHS previously published this information collection request (ICR) in the Federal Register on September 14, 2009, at 74 FR 47010, for a 60-day public comment period. No comments were received by DHS. The purpose of this notice is to allow additional 30 days for public comments.

DATES: Comments are encouraged and will be accepted until January 14, 2010. This process is conducted in accordance with 5 CFR 1320.10.

ADDRESSES: Interested persons are invited to submit written comments on the proposed information collection to the Office of Information and Regulatory Affairs, Office of Management and Budget. Comments should be addressed to OMB Desk Officer, Department of Homeland Security and sent via electronic mail to oira_submission@omb.eop.gov or faxed to (202) 395-5806.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: The Department of Homeland Security (DHS), Amanda Norman, Program Analyst, DHS/NPPD/IP/IICD, Amanda.norman@dhs.gov.

SUPPLEMENTARY INFORMATION: In order to identify and assess the vulnerabilities and risks pertaining to a specific public assembly venue, such as a stadium or arena, owner-operators and/or security managers often volunteer to conduct an R-SAT assessment. The requested questionnaire information is necessary in order to facilitate electronic execution of the Commercial Facilities Sector's risk assessment to focus protection resources and activities on those assets, systems, networks, and functions with the highest risk profiles. Currently, there is no known data collection that includes multiple facilities within the Commercial Facilities Sector. After the user logs into the R-SAT system the user will be prompted with the R-SAT Assessment questionnaire and will answer various questions to input the data. Once the user begins the assessment, the only information required to be submitted to (and shared with) the U.S. Department of Homeland Security (DHS) before completing the assessment is venue identification information (e.g., point-of-contact information, address, latitude/longitude, venue type, capacity, etc.). A user can elect to share their entire completed assessment with DHS, which will protect the information as Protected Critical Infrastructure Information (PCII). The information from the assessment will be used to assess the risk of the evaluated entity (e.g., calculate a vulnerability score by threat, evaluate protective/mitigation measures relative to vulnerability, calculate a risk score, report threats presenting highest risks, etc.). The information will also be combined with data from other respondents to provide an overall sector perspective (e.g., report additional relevant protective/mitigation measures for consideration, etc.).

Analysis

Agency: Department of Homeland Security, National Protection and Programs Directorate.

Title: Assessment Questionnaire—Risk Self-Assessment Tool (R-SAT).

OMB Number: 1670—NEW.

Frequency: Frequency.

Affected Public: Business or other for profit.

Number of Respondents: 200.

Estimated Time Per Respondent: 40 hours.

Total Burden Hours: 8,000 annual burden hours.

Total Burden Cost (capital/startup): $0.00.

Total Burden Cost (operating/maintaining): $0.00.

Signed: December 8, 2009.
Thomas Chase Garwood, III,
Chief Information Officer, National Protection and Programs Directorate, Department of Homeland Security.

[FR Doc. E9-29738 Filed 12-14-09; 8:45 am]

BILLING CODE 9110-09-P